DEPARTMENT OF TRANSPORTATION

Federal Railroad Administration

[Docket No. FRA-2000-7054]

Petition for Grandfathering of Non-Compliant Equipment, Maryland Mass Transit Administration

In accordance with 49 CFR 238.203(f), notice is hereby given that the Maryland Mass Transit Administration (MTA) has petitioned the Federal Railroad Administration (FRA) for grandfathering of non-compliant equipment for use on MTA's Central Light Rail Line.

Section 238.203 of title 49 of the Code of Federal Regulations addresses static end strength requirements for passenger rail equipment. Paragraph (a)(1) provides that all passenger equipment (subject to limited exceptions) shall resist a minimum static end load of 800,000 pounds applied on the line of draft without permanent deformation of the body structure. Paragraph (d)(2) provides that “[a]ny passenger equipment placed in service on a rail line or lines before November 8, 1999 that does not comply with the requirements of paragraph (a)(1) may continue to be operated on that particular line or (those particular lines) if the operator of the equipment files a petition seeking grandfathering approval under paragraph (d)(3) before November 8, 1999. Such usage may continue while the petition is being processed, but in no event later than May 8, 2000, unless the petition is approved.”

MTA requests that all conventional light rail vehicles operating on the Central Light Rail Line (extending from Baltimore, Maryland, north to Timonium, south to Cromwell, southwest to BWI Airport, east to Penn Station and north to Hunt Valley) be grandfathered to permit usage pursuant to 49 CFR 238.203(d).

Interested parties are invited to participate in this proceeding by submitting written views, data or comments. FRA does not anticipate scheduling a public hearing in connection with this proceeding, however, if any interested party desires an opportunity for oral comment, they should notify FRA, in writing, before the end of the comment period and specify the basis for their request.

All communications concerning this proceeding should be identified with Docket Number FRA-2000-7054 and must be submitted to the Docket Clerk, DOT Central Docket Management Facility, Room PL-401, 400 Seventh Street, SW, Washington, DC 20590-0001. Communications received within 30 days of publication of this notice will be considered by FRA before final action is taken. Comments received after that date will be considered to the extent possible. MTA's petition and all written communications concerning this proceeding are available for examination during regular business hours (9:00 a.m. to 5:00 p.m.) at DOT Central Docket Management Facility, Room PL-401 (Plaza Level), 400 Seventh, SW, Washington, DC 20590-0001. All documents in the public docket are also available for inspection and copying on the Internet at the docket facility's Web site at http://dms.dot.gov.

Issued in Washington, DC on March 10, 2000.
Grady C. Cothen, Jr.,
Deputy Associate Administrator for Safety Standards and Program Development.

[FR Doc. 00-6446 Filed 3-15-00; 8:45 am]

BILLING CODE 4910-06-P